DEPARTMENT OF HOMELAND SECURITY

Customs and Border Protection

[CBP Dec. 08-49]

Notice of Expansion of Temporary Worker Visa Exit Program Pilot To Include H-2B Temporary Workers

AGENCY: U.S. Customs and Border Protection, Department of Homeland Security.

ACTION: General notice.

SUMMARY: This notice announces that U.S. Customs and Border Protection is expanding a pilot program that implements a land-border exit system for certain temporary workers at certain designated ports of entry. Under the expansion of this pilot program, temporary workers within the H-2A and H-2B nonimmigrant classifications that enter the United States at the ports of San Luis, Arizona or Douglas, Arizona on or after August 1, 2009, must depart from either one of those ports and provide certain biographic and biometric information at one of the kiosks established for this purpose. Any nonimmigrant alien admitted under an H-2A or H-2B nonimmigrant visa at one of the designated ports of entry will be issued a CBP Form I-94, Arrival and Departure Record, and be presented with information material that explains the pilot program requirements.

DATES: The effective date of this notice is August 1, 2009.

FOR FURTHER INFORMATION CONTACT: Ms. Erin M. Martin via e-mail at ERIN.Martin@dhs.gov.

SUPPLEMENTARY INFORMATION:

Background

A pilot program for certain temporary workers was first proposed on February 13, 2008, when the Department of Homeland Security (DHS) published a notice of proposed rulemaking (73 FR 8230) to amend its regulations regarding the H-2A nonimmigrant classification.¹ Specifically, DHS proposed to create 8 CFR 215.9 instituting a temporary worker visa exit pilot program and requiring certain H-2A temporary agricultural workers to participate in a pilot program that requires these workers to register with Customs and Border Protection (CBP) at the time of their departure from the United States. On December 18, 2008, a final rule was published in the Federal Register establishing the pilot program. Pursuant to the final rule, CBP published a notice, CBP Dec. 08-48, in the same Federal Register that requires H-2A temporary agricultural workers entering the U.S. at the ports of San Luis and Douglas, Arizona, on or after August 1, 2009, to register with CBP at the time of departure from the United States.

¹ The H-2A nonimmigrant classification applies to aliens seeking to perform agricultural labor or services of a temporary or seasonal nature in the United States. Immigration and Nationality Act (Act or INA) sec. 101(a)(15)(H)(ii)(a), 8 U.S.C. 1101(a)(15)(H)(ii)(a); see 8 CFR 214.1(a)(2) (designation for H-2A classification).

On August 20, 2008, DHS published a Notice of Proposed Rulemaking in the Federal Register (73 FR 49109) proposing changes to requirements affecting temporary non-agricultural workers within the H-2B nonimmigrant classification and their U.S. employers.² Among other things, DHS proposed to expand the temporary worker visa exit pilot program to include the H-2B nonimmigrant classification by requiring H-2B temporary nonagricultural workers admitted at a port of entry participating in the program to register with CBP at the time of departure from the United States. DHS is publishing the final rule in today's edition of the Federal Register, concurrent with this Notice.

² The H-2B nonimmigrant classification applies to foreign workers coming to the U.S. temporarily to perform temporary, non-agricultural labor or services. Immigration and Nationality Act (Act or INA) sec. 101(a)(15)(H)(ii)(b), 8 U.S.C. 1101(a)(15)(H)(ii)(b); see 8 CFR 214.1(a)(2) (designation for H-2B classification).

The final rule amends 8 CFR 215.9 to provide that an alien admitted with a certain temporary worker visa at a port of entry participating in the Temporary Worker Visa Exit Program must also depart at the end of his or her authorized period of stay through a port of entry participating in the program and present designated biographic and/or biometric information upon departure. The amended § 215.9 further states that CBP will publish a notice in the Federal Register designating which temporary workers must participate in the Temporary Worker Visa Exit Program, which ports of entry are participating in the program, which biographical and/or biometric information would be required, and the format for submission of that information by the departing designated temporary workers.

The instant notice is being issued pursuant to amended § 215.9. It contains all the required elements referenced in 8 CFR 215.9 as amended and expands the temporary worker visa exit pilot program to include both the H-2A and the H-2B classifications. The requirements of the pilot program, the designated ports, and the effective date of the pilot program will be the same for both H-2A and H-2B temporary workers. Therefore, any alien who is admitted into the United States with an H-2A or H-2B nonimmigrant visa at a designated port on or after August 1, 2009, will be subject to the expanded pilot program.

Temporary Worker Visa Exit Program Pilot

General Requirements

Any alien admitted into the United States at a designated port of entry with either an H-2A or H-2B nonimmigrant visa must depart from a designated port of entry and must submit certain biographic and biometric information at one of the kiosks established for this purpose.

Designated Ports of Entry

San Luis, Arizona.

Douglas, Arizona.

Entry Procedures

Any nonimmigrant alien admitted with an H-2A or H-2B nonimmigrant visa at one of the designated ports of entry will be issued a CBP Form I-94, Arrival and Departure Record, and be presented with information material that explains the pilot program requirements. The information material will instruct the alien to appear in person at one of the designated ports of entry to register his or her final departure from the United States at that port on or before the date that his or her work authorization expires.

Exit Procedures

An alien admitted with an H-2A or H-2B nonimmigrant visa must depart at a designated port on or before the date his or her work authorization expires. At the time of departure, the alien must present the following biographic and biometric information at a kiosk installed for this purpose:

• Biographic information—name, date of birth, country of citizenship, passport number, and the name of the Consulate where the alien's visa was issued. The biographic information will be provided by scanning the alien's travel document (visa). If the scan of the visa fails, the alien will scan his or her passport. If the scan of the passport fails, the alien will manually enter the required biographic information.

• Biometric information—a 4-finger scan from one hand.

• The departure portion of the CBP Form I-94—this must be deposited into a lockbox attached to the kiosk and the departing alien will receive a receipt verifying a successfully completed checkout registration.

Kiosks

Instructions for departure registration will be available in both English and Spanish for use by departing aliens at the kiosks.

Officer assistance will be available in the event that an alien is unable to utilize the designated kiosk to record his or her departure.

Dated: December 8, 2008.
Jayson P. Ahern,
Acting Commissioner, U.S. Customs and Border Protection.

[FR Doc. E8-30093 Filed 12-18-08; 8:45 am]

BILLING CODE 9111-14-P